DEPARTMENT OF HOMELAND SECURITY

Coast Guard

33 CFR Part 100

[Docket No. USCG-2008-0313]

National Maritime Week Tugboat Races

AGENCY: Coast Guard, DHS.

ACTION: Notice of enforcement of regulation.

SUMMARY: The Coast Guard will enforce the National Maritime Week Tugboat Races Special Local Regulations in Elliott Bay from 12 p.m. through 4:30 p.m. on May 10, 2008. This action is necessary to ensure the safety of participants and spectators during the National Maritime Week Tugboat Races. During the enforcement period, entry into, transit through, mooring, or anchoring within the regulated area is prohibited unless authorized by the Captain of the Port, Puget Sound or his designated representatives.

DATES: The regulations in 33 CFR Part 100.1306 will be enforced from 12 p.m. through 4:30 p.m. on May 10, 2008.

FOR FURTHER INFORMATION CONTACT: Lieutenant James M. Dupureur, c/o Captain of the Port Puget Sound, Coast Guard Sector Seattle, 1519 Alaskan Way South, Seattle, WA 98134 at (206) 217-6045.

SUPPLEMENTARY INFORMATION: The Coast Guard will enforce the special local regulations for the annual National Maritime Week Tugboat Races in 33 CFR Part 100.1306 on May 10, 2008, from 12 p.m. to 4:30 p.m.

Under the provisions of 33 CFR 100.1306, entry into, transit through, mooring, or anchoring within the regulated area is prohibited unless authorized by the Captain of the Port, Puget Sound or his designated representatives. Spectator vessels may safely transit outside the regulated area but may not anchor, block, loiter in, or impede the transit of race participants or official patrol vessels. The Coast Guard may be assisted by other Federal, State, or local law enforcement agencies in enforcing this regulation.

This notice is issued under authority of 33 CFR 100.1306(c) and 5 U.S.C. 552(a).

Dated: April 23, 2008.
Stephen P. Metruck,
Captain, U.S. Coast Guard, Captain of the Port, Puget Sound.

[FR Doc. E8-10240 Filed 5-6-08; 8:45 am]

BILLING CODE 4910-15-P